FEDERAL ELECTION COMMISSION

Sunshine Act Meeting

AGENCY: Federal Election Commission.

DATE AND TIME: Tuesday, August 22, 2017 at 3:00 p.m.

PLACE: 999 E Street NW., Washington, DC.

STATUS: This meeting was closed to the public.

Items Discussed: Compliance matters pursuant to 52 U.S.C. 30109.

* * * * *

PERSON TO CONTACT FOR INFORMATION: Judith Ingram, Press Officer, Telephone: (202) 694-1220.

Laura E. Sinram,
Acting Deputy Secretary of the Commission.

[FR Doc. 2017-18132 Filed 8-23-17; 11:15 am]

BILLING CODE 6715-01-P